DEPARTMENT OF LABOR

Pension and Welfare Benefits Administration

29 CFR Part 2590

RIN 1210-AA72

National Medical Support Notice: Delay of Effective Date

AGENCY: Pension and Welfare Benefits Administration, Department of Labor.

ACTION: Final rule; Delay of effective date.

SUMMARY: In accordance with the memorandum of January 20, 2001, from the Assistant to the President and Chief of Staff, entitled “Regulatory Review Plan,” published in the Federal Register on January 24, 2001, this action temporarily delays for 60 days the effective date of the rule entitled National Medical Support Notice, published in the Federal Register on December 27, 2000, 65 FR 82128. That rule promulgates a notice to be issued by State Agencies as a means to enforce health care coverage provisions in a child support order and to be treated by administrators of group health plans as a qualified medical child support order under section 609(a) of the Employee Retirement Income Security Act (ERISA). To the extent that 5 U.S.C. section 553 applies to this action, it is exempt from notice and comment because it constitutes a rule of procedure under 5 U.S.C. section 553(b)(A). Alternatively, the Department's implementation of this rule without opportunity for public comment, effective immediately upon publication today in the Federal Register, is based on the good cause exceptions in 5 U.S.C. section 553(b)(B) and 553(d)(3), in that seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. In addition, allowing the rule to become effective before the temporary suspension could create confusion among State agencies, employers and plan administrators regarding the qualified status of child support orders issued before and during the suspension period.

DATES: The effective date of the National Medical Support Notice, published in the Federal Register on December 27, 2000, at 65 FR 82128, is delayed for 60 days, from January 26, 2001 to a new effective date of March 27, 2001.

FOR FURTHER INFORMATION CONTACT: David Lurie or Susan Rees, Office of Regulations and Interpretations, Pension and Welfare Benefits Administration, 200 Constitution Avenue, NW, Room N-5669, Washington, DC 20010, (202) 219-8671 (this is not a toll-free number).

Signed at Washington, DC, this January 25, 2001.
Alan D. Lebowitz,
Deputy Assistant Secretary for Program Operations, Pension and Welfare Benefits Administration, Department of Labor.

[FR Doc. 01-2581 Filed 1-25-01; 1:43 pm]

BILLING CODE 4510-29-P